NATIONAL FOUNDATION ON THE ARTS AND HUMANITIES

Proposed Collection, Comment Request, Program Guidelines, Report Forms, Reviewer Forms

AGENCY: Institute of Museum and Library Services.

ACTION: Notice of requests for information collection.

SUMMARY: The Institute of Museum and Library Services as part of its continuing effort to reduce paperwork and respondent burden, conducts a pre-clearance consultation program to provide the general public and federal agencies with an opportunity to comment on proposed and/or continuing collections of information in accordance with the Paperwork Reduction Act of 1995 (PRA95), 44 U.S.C. Section 3508(2)(A). This program helps to ensure that requested data can be provided in the desired format, reporting burden (time and financial resources) is minimized, collection instruments are clearly understood, and the impact of collection requirements on respondents can be properly assessed. Currently the Institute of Museum and Library Services is soliciting comments concerning the proposed collection of application information for Librarians for the 21st Century, Native American/Native Hawaiian Library Services reporting forms, Grants for State Library Administrative Agencies financial report form, and reviewer forms.

A copy of the proposed information collection request can be obtained by contacting the individual listed below in the addresses section of this notice.

DATES: Written comments must be submitted to the office listed in the addressee section below on or before December 20, 2004.

IMLS is particularly interested in comments that help the agency to:

• Evaluate whether the proposed collection of information is necessary for the proper performance of the functions of the agency, including whether the information will have practical utility;

• Evaluate the accuracy of the agency's estimate of the burden of the proposed collocation of information including the validity of the methodology and assumptions used;

• Enhance the quality, utility and clarity of the information to be collected; and

• Minimize the burden of the collection of information on those who are to respond, including through the use of appropriate automated electronic, mechanical, or other technological collection techniques or other forms of information technology, e.g. permitting electronic submissions of responses.

ADDRESSES: Send comments to: Rebecca Danvers, Director, Office of Research and Technology, Institute of Museum and Library Services, 1100 Pennsylvania Ave., NW., Room 223, Washington, DC 20506. Dr. Danvers can be reached on Telephone: 202-606-2478 Fax: 202-606-0395 or by e-mail at rdanvers@imls.gov.

SUPPLEMENTARY INFORMATION: Background: The Institute of Museum and Library Services is an independent Federal grant-making agency authorized by the Museum and Library Services Act, 20 U.S.C. Section 9101, et seq. The IMLS provides a variety of grant programs to assist the nation's museums and libraries in improving their operations and enhancing their services to the public. Museums and libraries of all sizes and types may receive support from IMLS programs. The Museum and Library Services Act, 20 U.S.C. Section 9101, et seq. authorizes the Director of the Institute of Museum and Library Services to make grants to museums, libraries, and other entities as the Director considers appropriate, and to Indian tribes and to organizations that primarily serve and represent Native Hawaiians. In addition, IMLS awards financial assistance to State Library Administrative Agencies, which are responsible for promoting library services throughout the country.

Current Actions

To administer these programs of grants, cooperative agreements and contracts, IMLS must develop application guidelines, reports and collect information about reviewers.

Agency: Institute of Museum and Library Services.

Title: Application Guidelines, reporting forms, reviewer forms.

OMB Number: 3137-0049, n/a.

Agency Number: 3137.

Frequency: Annually.

Affected Public: Museums, museum organizations, libraries, library organizations, institutions of higher education, Indian tribes and to organizations that primarily serve and represent Native Hawaiians, and museum and library professionals.

Number of Respondents: 3100.

Estimated Time Per Respondent: .25-40 hours.

Total Burden Hours: 4000.

Total Annualized capital/startup costs: 0.

Total Annual costs: 0.

FOR FURTHER INFORMATION CONTACT: Rebecca Danvers, Director of the Office of Research and Technology, Institute of Museum and Library Services, 1100 Pennsylvania Avenue, NW., Washington, DC 20506, telephone (202) 606-2478.

Dated: October 12, 2004.
Rebecca Danvers,
Director, Office of Research and Technology.

[FR Doc. 04-23405 Filed 10-19-04; 8:45 am]

BILLING CODE 7036-01-M